SECURITIES AND EXCHANGE COMMISSION

17 CFR Parts 229 and 240

[Release Nos. 33-9330; 34-67220; File No. S7-13-11]

RIN 3235-AK95

Listing Standards for Compensation Committees

Correction

In rule document 2012-15408, appearing on pages 38422-38455, in the issue of Wednesday, June 27, 2012, make the following correction:

1. On page 38422, in column one, under the heading DATES, Compliance Dates, thirteenth line, “June 27, 2012” should read “June 27, 2013”.

[FR Doc. C1-2012-15408 Filed 7-2-12; 8:45 am]

BILLING CODE 1505-01-D